DEPARTMENT OF HEALTH AND HUMAN SERVICES

Administration for Children and Families

Proposed Information Collection Activity; Screening Tool for Unaccompanied Children Program Staff and Visitors (0970-0543)

AGENCY: Office of Refugee Resettlement, Administration for Children and Families, Department of Health and Human Services.

ACTION: Request for public comment.

SUMMARY: The Office of Refugee Resettlement (ORR), Administration for Children and Families (ACF), U.S. Department of Health and Human Services (HHS), is proposing to continue use of a coronavirus (COVID-19) screening tool for unaccompanied children (UC) program staff and visitors at ORR care provider facilities.

DATES: Comments due within 60 days of publication. In compliance with the requirements of the Paperwork Reduction Act of 1995, ACF is soliciting public comment on the specific aspects of the information collection described above.

ADDRESSES: Copies of the proposed collection of information can be obtained and comments may be forwarded by emailing infocollection@acf.hhs.gov. Alternatively, copies can also be obtained by writing to the Administration for Children and Families, Office of Planning, Research, and Evaluation (OPRE), 330 C Street SW, Washington, DC 20201, Attn: ACF Reports Clearance Officer. All requests, emailed or written, should be identified by the title of the information collection.

SUPPLEMENTARY INFORMATION: Description: The COVID-19 Verbal Screening and Temperature Check tool is verbally administered to all staff and visitors before they are granted access an ORR care provider facility. The tool asks whether the individual displays COVID-19 symptoms, has had close contact with individuals known to test positive for COVID-19, has been tested for COVID-19, has been exposed to someone known or suspected to be infected with COVID-19, or has been tested for COVID-19. The tool also requests a temperature check. The information collected by administering this screening tool will help ensure the health and safety of children and staff at care provider facilities by helping to identify and reduce potential exposure to COVID-19.

Respondents: Staff and visitors at ORR care provider programs.

Annual Burden Estimates
Instrument | Total number of respondents | Annual responses per respondent | Average burden hours per response | Annual burden hours
COVID-19 Verbal Screening and Temperature Check | 15,000 | 260 | .033 | 128,700

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 6 U.S.C. 279.

Mary B. Jones,
ACF/OPRE Certifying Officer.

[FR Doc. 2021-17255 Filed 8-9-21; 4:15 pm]

BILLING CODE 4184-45-P